DEPARTMENT OF DEFENSE

Office of the Secretary

[Docket ID: DoD-2024-OS-0057]

Proposed Collection; Comment Request

AGENCY: Office of the Under Secretary of Defense for Intelligence and Security (OUSD(I&S)), Department of Defense (DoD).

ACTION: 60-Day information collection notice.

SUMMARY: In compliance with the Paperwork Reduction Act of 1995, the Defense Counterintelligence and Security Agency announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by July 19, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the Defense Counterintelligence and Security Agency, 27130 Telegraph Rd, Quantico, VA 22134-2253, ATTN: Mr. Christopher Pirch, or call 571-305-6241.

SUPPLEMENTARY INFORMATION:

Title; Associated Form; and OMB Number: Personnel Security Investigation Projection for Industry Census Survey; OMB Control Number 0705-0007.

Needs and Uses: Executive Order (E.O.) 12829, “National Industrial Security Program (NISP),” stipulates that the Secretary of Defense shall serve as the Executive Agent for inspecting and monitoring the contractors, licensees, and grantees who require or will require access to classified information; and for determining the eligibility for access to classified information of contractors, licensees, and grantees and their respective employees. The Under Secretary of Defense for Intelligence assigned Defense Counterintelligence and Security Agency (DCSA) the responsibility for central operational management of NISP personnel security investigation (PSI) workload projections, and for monitoring of NISP PSI funding and investigations. The execution of the collection instrument is an essential element of DCSA's ability to plan, program and budget for the PSI needs of NISP personnel security investigations.

Affected Public: Businesses or other for-profit, not-for-profit institutions, state, local or tribal governments.

Annual Burden Hours: 5,333.

Number of Respondents: 7,999.

Responses per Respondent: 1.

Annual Responses: 7,999.

Average Burden per Response: 40 minutes.

Frequency: Annually.

Contractor entities are responsible for completing contractual requirements. Based on guidance contained in their contracts, they must identify which personnel will require background investigations for clearances in order to complete those contracts. Therefore, in order to comply with the terms of the Fiscal Year 2001 Defense Authorization Bill as they pertain to quantifying background investigation requirements and to ensure sufficient funding for these background investigations for clearances, DCSA must solicit input from the contractor entities regarding the numbers of each type of investigation they require for contract performance requiring access to classified information. The survey data are used to project case and cost estimates, integral to planning and programming for NISP personnel security investigations across the Fiscal Year Defense Plan.

Dated: May 15, 2024.
Aaron T. Siegel,
Alternate OSD Federal Register Liaison Officer, Department of Defense.

[FR Doc. 2024-11020 Filed 5-17-24; 8:45 am]

BILLING CODE 6001-FR-P